DEPARTMENT OF THE INTERIOR

Fish and Wildlife Service

Draft Safe Harbor Agreement and Application for an Enhancement of Survival Permit for the Chiricahua Leopard Frog in Arizona (State-Wide)

AGENCY: U.S. Fish and Wildlife Service, Interior.

ACTION: Notice of availability; receipt of application.

SUMMARY: The Arizona Game and Fish Department (AGFD) (Applicant) has applied to the U.S. Fish and Wildlife Service (Service) for an enhancement of survival permit pursuant to Section 10(a)(1)(A) of the Endangered Species Act (Act), as amended. The requested permit, which is for a period of 50 years, would authorize incidental take of the threatened Chiricahua leopard frog (Rana chiricahuensis) as a result of conservation actions, on-going livestock operations, recreation, land treatments, and other existing land-use activities. The Applicant would issue certificates of inclusion under a Safe Harbor Agreement (SHA) to private landowners who would voluntarily agree to implement appropriate conservation measures for the species. We invite the public to review and comment on the permit application and the associated draft SHA.

DATES: To ensure consideration, written comments must be received on or before September 1, 2006.

ADDRESSES: Persons wishing to review the application, draft SHA, or other related documents may obtain a copy by written or telephone request to the Field Supervisor, U.S. Fish and Wildlife Service, Arizona Ecological Services Office, 2321 West Royal Palm Road, Suite 103, Phoenix, Arizona 85021-4951 (602/242-0210). Electronic copies of these documents will also be available for review on the Arizona Ecological Services Office Web site, http://www.fws.gov/arizonaes/. The application and related documents will be available for public inspection, by appointment only, during normal business hours (8 a.m. to 4:30 p.m.) at the Service's Phoenix office. Comments concerning the application, draft SHA, or other related documents should be submitted in writing to the Field Supervisor, U.S. Fish and Wildlife Service, Arizona Ecological Services Office, 2321 West Royal Palm Road, Suite 103, Phoenix, Arizona 85021-4951. Please refer to permit number TE-123062-0 when submitting comments. All comments received, including names and addresses, will become a part of the official administrative record and may be made available to the public.

FOR FURTHER INFORMATION CONTACT: Marty Tuegel at the U.S. Fish and Wildlife Service Tucson office, 201 N. Bonita Avenue, Suite 141, Tucson, Arizona 85745 (520/670-6150) ext. 232, or by e-mail at Marty_Tuegel@fws.gov.

SUPPLEMENTARY INFORMATION: The Applicant plans to implement a programmatic SHA that will enhance and maintain existing Chiricahua leopard frog habitat, create additional habitats, and reestablish populations of the species on the privately held lands of willing landowners within the historical range of Chiricahua leopard frog in Arizona (approximately 9,050 mi² [23,440 km²] in portions of Apache, Cochise, Coconino, Gila, Graham, Greenlee, Navajo, Pima, Pinal, Santa Cruz, and Yavapai counties). Additionally, under this SHA, refugium and breeding facilities may be established on non-Federal lands in appropriate locations within Arizona. Chiricahua leopard frogs are native to the Mogollon Rim, White Mountains, and the Sky Island regions of southeastern and south-central Arizona. The SHA is expected to provide a net conservation benefit to the Chiricahua leopard frog.

The draft SHA and permit application are not eligible for categorical exclusion under the National Environmental Policy Act of 1969, based upon completion of a preliminary NEPA screening form. Due to the results of this preliminary analysis of potential effects, a draft Environmental Assessment has been prepared to further analyze the direct, indirect, and cumulative impacts of the SHA on the quality of the human environment or other natural resources.

Section 9 of the Act prohibits the “taking” of threatened or endangered species. However, the Service, under limited circumstances, may issue permits to take threatened and endangered wildlife species incidental to, and not the purpose of, otherwise lawful activities.

We provide this notice under section 10(c) of the Act (16 U.S.C. 1531 et seq.) and its implementing regulations (50 CFR 17.22), and the National Environmental Policy Act (42 U.S.C. 4371 et seq.) and its implementing regulations (40 CFR 1506.6).

Benjamin N. Tuggle,
Acting Regional Director, Region 2, Albuquerque, New Mexico.

[FR Doc. E6-12421 Filed 8-1-06; 8:45 am]

BILLING CODE 4510-55-P